DEPARTMENT OF HEALTH AND HUMAN SERVICES

National Institutes of Health

Prospective Grant of Exclusive License: Food Quality Indicators

AGENCY: National Institutes of Health, Public Health Service, HHS.

ACTION: Notice.

SUMMARY: This is notice, in accordance with 35 U.S.C. 209(c)(1) and 37 CFR 404.7(a)(1)(i), that the National Institutes of Health (NIH), Department of Health and Human Services (HHS), is contemplating the grant of a worldwide exclusive patent license to practice the inventions embodied in:

HHS Ref. No. E-093-1997/0 “Food Quality Indicator;”

Patent application No. | Territory | Filing date | Status
61/052,674 | US | July 16, 1997 | Expired.
PCT/US1998/14780 | Int'l | July 16, 1998 | Nationalized.
7,014,816 | US | July 16, 1998 | Issued (expires July 16, 2017).
782088 | AU | July 16, 1998 | Issued (expires July 16, 2018).
10-0764516-0 | KR | July 16, 1998 | Issued (expires July 16, 2018).
98934602.8 | EP | July 16, 1998 | Pending (expected expiry July 16, 2018).
129002 | IL | July 16, 1998 | Issued (expires July 16, 2018).
4538106 | JP | July 16, 1998 | Issued (expires July 16, 2018).
2268477 | CA | July 16, 1998 | Issued (expires July 16, 2018).
241666 | MX | July 16, 1998 | Issued (expires July 16, 2018).

to Vivione Biosciences, LLC, a company incorporated under the laws of the State of Delaware having its headquarters in Jonesboro, Arkansas. The United States of America is the assignee of the rights in the above inventions. The contemplated exclusive license may be granted in a field of use limited to devices for detecting volatile compounds indicative of food spoilage.

DATES: Only written comments and/or applications for a license received by the NIH Office of Technology Transfer on or before March 29, 2013 will be considered.

ADDRESSES: Requests for a copy of the patent application, inquiries, comments and other materials relating to the contemplated license should be directed to: Michael A. Shmilovich, Esq., CLP, Office of Technology Transfer, National Institutes of Health, 6011 Executive Boulevard, Suite 325, Rockville, MD 20852-3804; Telephone: (301) 435-5019; Facsimile: (301) 402-0220; Email: shmilovm@mail.nih.gov. A signed confidentiality nondisclosure agreement will be required to receive copies of any patent applications that have not been published by the United States Patent and Trademark Office or the World Intellectual Property Organization.

SUPPLEMENTARY INFORMATION: The patent applications (including any patents issuing therefrom or claiming priority thereto) intended for licensure describe and claim indicator strips for monitoring food quality and freshness in real time. The major factor for food spoilage is the release of volatile gases due to the action of enzymes contained within the food or produced by microorganisms growing in the food. The rate of release of such gases depends on food's storage history. In this technology, a reactive dye locked in a water-repellent material reacts with the gases released during food decomposition, and changes color. Thus a rapid and informed decision can be made about quality of food and its shelf life under the storage conditions used. Since the detection is based on biological processes that are the root cause for food spoilage, these indicators are much more reliable. This technology provides an alternative to the current methods for assessing food quality that cannot accurately estimate shelf life of food products due to unreliable storage history. These indicators have been successfully tested on seafood and meats and can be easily adapted to dairy products.

The prospective exclusive license will be royalty bearing and will comply with the terms and conditions of 35 U.S.C. 209 and 37 CFR 404.7. The prospective exclusive license may be granted unless, within thirty (30) days from the date of this published notice, NIH receives written evidence and argument that establishes that the grant of the license would not be consistent with the requirements of 35 U.S.C. 209 and 37 CFR 404.7.

Properly filed competing applications for a license filed in response to this notice will be treated as objections to the contemplated license. Comments and objections submitted in response to this notice will not be made available for public inspection, and, to the extent permitted by law, will not be released under the Freedom of Information Act, 5 U.S.C. 552.

Dated: February 20, 2013.
Richard Rodriguez,
Director, Division of Technology Development and Transfer, Office of Technology Transfer, National Institutes of Health.

[FR Doc. 2013-04442 Filed 2-26-13; 8:45 am]

BILLING CODE 4140-01-P